ENVIRONMENTAL PROTECTION AGENCY

[EPA-HQ-OECA-2011-0264; FRL-9936-22-OEI]

Information Collection Request Submitted to OMB for Review and Approval; Comment Request; NSPS for Stationary Compression Ignition Internal Combustion Engines (Renewal)

AGENCY: Environmental Protection Agency (EPA).

ACTION: Notice.

SUMMARY: The Environmental Protection Agency has submitted an information collection request (ICR), “NSPS for Stationary Compression Ignition Internal Combustion Engines (40 CFR part 60, subpart IIII) (Renewal)” (EPA ICR No. 2196.05, OMB Control No. 2060-0590) to the Office of Management and Budget (OMB) for review and approval in accordance with the Paperwork Reduction Act (44 U.S.C. 3501 et seq.). This is a proposed extension of the ICR, which is currently approved through October 31, 2015. Public comments were previously requested via the Federal Register (80 FR 32116) on June 5, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 27, 2015.

ADDRESSES: Submit your comments, referencing Docket ID Number EPA-HQ-OECA-2011-0264, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION:

Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: Owners and operators of affected facilities are required to comply with the reporting and record keeping requirements for the general provisions of 40 CFR part 60, subpart A, as well as the specific requirements in 40 CFR part 60, subpart IIII. This includes submitting initial notifications, performance tests and periodic reports and results, and maintaining records of the occurrence and duration of any startup, shutdown, or malfunction in the operation of an affected facility, or any period during which the monitoring system is inoperative. These reports are used by EPA to determine compliance with the standards.

Form Numbers: None.

Respondents/affected entities: Manufacturers, owners and operators of new stationary compression ignition (CI) internal combustion engines (ICE).

Respondent's obligation to respond: Mandatory (40 CFR part 60, subpart IIII).

Estimated number of respondents: 206,530 (total).

Frequency of response: Initially and annually.

Total estimated burden: 408,000 hours (per year). Burden is defined at 5 CFR 1320.3(b).

Total estimated cost: $41,200,000 (per year), includes $167,000 annualized capital or operation & maintenance costs.

Changes in the Estimates: There is an increase in the respondent burden hours from the ICR currently approved by OMB. The increase in burden from the most recently approved ICR is primarily due to accounting for burden items that became applicable as sources came into full compliance with the rule. In this ICR period, owners/operators of emergency stationary CI ICE must begin submitting annual reports. The first annual report must cover the calendar year 2015 and must be submitted no later than March 31, 2016. In addition, this ICR includes the burden for owners/operators of stationary CI ICE equipped with diesel particulate filter to maintain records of any corrective action taken after the high backpressure limit of the engine is approached, which became applicable in 2011.

There is a decrease in the estimated number of responses and the O&M cost due to corrections to the Agency's estimates. The decrease is not due to any program changes. The previous ICR incorrectly included responses for non-emergency operations, and had an inconsistency in calculating the O&M cost for selective enforcement audit.

Courtney Kerwin,
Acting Director, Collection Strategies Division.

[FR Doc. 2015-27315 Filed 10-26-15; 8:45 am]

BILLING CODE 6560-50-P